DEPARTMENT OF HEALTH AND HUMAN SERVICES

Food and Drug Administration

Advisory Committees; Tentative Schedule of Meetings for 2002

AGENCY: Food and Drug Administration, HHS.

ACTION: Notice.

SUMMARY: The Food and Drug Administration (FDA) is announcing a tentative schedule of forthcoming meetings of its public advisory committees for 2002. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Linda Ann Sherman, Advisory Committee Oversight and Management Staff (HF-4), Food and Drug Administration, 5600 Fishers Lane, Rockville, MD 20857, 301-827-1220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Web site located at http://www.fda.gov/oc/advisory/default.htm. FDA will continue to publish a Federal Register notice 15 days in advance of each upcoming advisory committee meeting to announce the meeting (21 CFR 14.20).

The following list announces FDA's tentatively scheduled advisory committee meetings for 2002. You may also obtain up-to-date meeting information by calling the Advisory Committee Information Line, 1-800-741-8138 (301-443-0572 in the Washington, DC area):

Committee Name | Dates of Meetings | Advisory Committee 5-Digit Information Line Code
OFFICE OF THE COMMISSIONER
Science Board to the Food and Drug Administration | April 16, November 12 | 12603
CENTER FOR BIOLOGICS EVALUATION AND RESEARCH
Allergenic Products Advisory Committee | March 15, November 4 | 12388
Biological Response Modifiers Advisory Committee | February 28-March 1 (Alternate: January 30-31), July 18-19 (Alternate: May 9-10), November 7-8 (Alternate: October 10-11). | 12389
Blood Products Advisory Committee | March 14-15, June 13-14, September 12-13, December 12-13. | 19516
Transmissible Spongiform Encephalopathies Advisory Committee. | January 16-17, June 26-27, October 17-18 | 12932
Vaccines and Related Biological Products Advisory Committee | January 30-31, March 6-7, May 21-22, July 10-11, September 10-11, November 18-19. | 12391
CENTER FOR DRUG EVALUATION AND RESEARCH
Advisory Committee for Pharmaceutical Science | February 25-26, May 7-9, October 23-25 | 12539
Advisory Committee for Reproductive Health Drugs | September 13 | 12537
Anesthetic and Life Support Drugs Advisory Committee | January 30-31, April 11-12 | 12529
Anti-Infective Drugs Advisory Committee | February 19-20 | 12530
Antiviral Drugs Advisory Committee | January 24, March 19, June 24-25, October 16-17. | 12531
Arthritis Advisory Committee | February 19-20, May 14-15, July 29-30, September 12-13, December 10-11. | 12532
Cardiovascular and Renal Drugs Advisory Committee | January 17-18, April 11-12, July 18-19, October 10-11. | 12533
Dermatologic and Ophthalmic Drugs Advisory Committee | September 20 | 12534
Drug Abuse Advisory Committee | No meetings planned | 12535
Endocrinologic and Metabolic Drugs Advisory Committee | March 14-15, May 23-24, July 22-23, September 26-27, December 5-6. | 12536
Gastrointestinal Drugs Advisory Committee | September 27 | 12538
Medical Imaging Drugs Advisory Committee | April 18, August 15 | 12540
Nonprescription Drugs Advisory Committee | April 22-23 | 12541
Oncologic Drugs Advisory Committee | January 31, February 27-28, June 6-7 | 12542
Peripheral and Central Nervous System Drugs Advisory Committee. | February 15 | 12543
Pharmacy Compounding Advisory Committee | September 27 | 12440
Psychopharmacologic Drugs Advisory Committee | September 13 | 12544
Pulmonary-Allergy Drugs Advisory Committee | January 17-18, May 16-17 | 12545
CENTER FOR FOOD SAFETY AND APPLIED NUTRITION
Food Advisory Committee | June 4-5, September 24-25 | 10564
CENTER FOR DEVICES AND RADIOLOGICAL HEALTH
Device Good Manufacturing Practice Advisory Committee | No meetings planned | 12398
Medical Devices Advisory Committee: |  |
Anesthesiology and Respiratory Therapy Devices Panel | March 18, May 13, September 23, October 28 | 12624
Circulatory System Devices Panel | March 4-5, June 3-4, September 9-10, November 4-5, December 2-3. | 12625
Clinical Chemistry and Clinical Toxicology Devices Panel | February 11-12, May 23-24, August 19-20, November 8. | 12514
Dental Products Panel | May 9-10, August 22-23, October 29-30 | 12518
Ear, Nose, and Throat Devices Panel | February 21-22, April 25-26, June 20-21, August 15-16, October 17-18, December 12-13. | 12522
Gastroenterology and Urology Devices Panel | February 1, May 17, August 9, November 7 | 12523
General and Plastic Surgery Devices Panel | February 7-8, April 9-10, July 8-9, October 1-2 | 12519
General Hospital and Personal Use Devices Panel | March 11-12, June 10-11, September 9-10, December 5-6. | 12520
Hematology and Pathology Devices Panel | April 15-16, June 17-18, September 26-27 | 12515
Immunology Devices Panel | March 15, June 14, September 13, December 6 | 12516
Medical Devices Dispute Resolution Panel | As needed | 10232
Microbiology Devices Panel | February 21-22, May 9-10, September 19-20, October 28-29. | 12517
Molecular and Clinical Genetics Panel | April 19, July 26, November 1 | 10231
Neurological Devices Panel | February 25-26, May 9-10, August 1-2, November 21-22. | 12513
Obstetrics and Gynecology Devices Panel | April 22-23, July 22-23, October 21-22 | 12524
Ophthalmic Devices Panel | January 17-18, March 14-15, May 16-17, July 18-19, September 12-13, November 14-15. | 12396
Orthopaedic and Rehabilitation Devices Panel | January 10, April 11-12, July 11-12, October 17-18. | 12521
Radiological Devices Panel | February 4, May 20, August 12, November 18 | 12526
National Mammography Quality Assurance Advisory Committee | May 6, September 23 | 12397
Technical Electronic Product Radiation Safety Standards Committee. | May 15 | 12399
CENTER FOR VETERINARY MEDICINE
Veterinary Medicine Advisory Committee | January 22-24, September 16 | 12548
NATIONAL CENTER FOR TOXICOLOGICAL RESEARCH
Advisory Committee on Special Studies Relating to the Possible Long-Term Health Effects of Phenoxy Herbicides and Contaminants. | March 13-14, September 24-25 | 12560
Science Advisory Board to the National Center for Toxicological Research. | June 11-12 | 12559

Dated: December 26, 2001.
Linda A. Suydam,
Senior Associate Commissioner.

[FR Doc. 02-26 Filed 1-2-02; 8:45 am]

BILLING CODE 4160-02-S